DEPARTMENT OF THE INTERIOR

Bureau of Land Management

[LLNM920000 L13100000 FI0000; OKNM 119314]

Notice of Proposed Reinstatement of Terminated Oil and Gas Lease OKNM 119314, Oklahoma

AGENCY: Bureau of Land Management, Interior.

ACTION: Notice.

SUMMARY: Under the provisions of the Mineral Leasing Act of 1920, as amended, the Bureau of Land Management (BLM) received a petition for reinstatement of oil and gas lease OKNM 119314 from the lessee Jones Energy, Ltd., for lands in Woodward County, Oklahoma. The petition was filed on time and was accompanied by all the rentals due since the date the lease terminated under the law.

FOR FURTHER INFORMATION CONTACT: JulieAnn Serrano, Bureau of Land Management, New Mexico State Office, P.O. Box 27115, Santa Fe, New Mexico 87502-0115 or at 505-954-2149. Persons who use a telecommunications device for the deaf (TDD) may call the Federal Information Relay Service (FIRS) at 1-800-877-8339 to contact the above individual during business hours. The FIRS is available 24 hours a day, 7 days a week, to leave a message or question with the above individual. You will receive a reply during normal business hours.

SUPPLEMENTARY INFORMATION: No valid lease has been issued that affects the lands. The lessee agrees to new lease terms for rentals and royalties of $10 per acre, or fraction thereof, per year and 16-2/3 percent, respectively. The lessee paid the required $500 administrative fee for the reinstatement of the lease and $159 cost for publishing this Notice in the Federal Register. The lessee met all the requirements for reinstatement of the lease as set out in Section 31 (d) and (e) of the Mineral Leasing Act of 1920 (30 U.S.C. 188). The BLM is proposing to reinstate lease OKNM 119314, effective the date of termination, December 1, 2011, under the original terms and conditions of the lease and the increased rental and royalty rates cited above.

JulieAnn Serrano,
Land Law Examiner, Fluids Adjudication Team.

[FR Doc. 2012-21934 Filed 9-5-12; 8:45 am]

BILLING CODE 4310-FB-P